DEPARTMENT OF HOUSING AND URBAN DEVELOPMENT

[Docket No. FR-7034-N-47]

30-Day Notice of Proposed Information Collection: Choice Neighborhoods; OMB Control No.: 2577-0269

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: September 16, 2021.

ADDRESSES: Interested persons are invited to submit comments regarding this proposal. Written comments and recommendations for the proposed information collection should be sent within 30 days of publication of this notice to www.reginfo.gov/public/do/Start Printed Page 15501PRAMain. Find this particular information collection by selecting “Currently under 30-day Review—Open for Public Comments” or by using the search function.

FOR FURTHER INFORMATION CONTACT: Colette Pollard, Reports Management Officer, QDAM, Department of Housing and Urban Development, 451 7th Street SW, Washington, DC 20410; email Colette Pollard at Colette.Pollard@hud.gov or telephone 202-402-3400. Persons with hearing or speech impairments may access this number through TTY by calling the toll-free Federal Relay Service at (800) 877-8339. This is not a toll-free number. Copies of available documents submitted to OMB may be obtained from Ms. Pollard.

SUPPLEMENTARY INFORMATION: This notice informs the public that HUD has submitted to OMB a request for approval of the information collection described in Section A. The Federal Register notice that solicited public comment on the information collection for a period of 60 days was published on June 7, 2021 at 86 FR 86 FR 30328.

A. Overview of Information Collection

Title of Information Collection: Choice Neighborhoods.

OMB Approval Number: 2577-0269.

Type of Request: Revision of currently approved collection.

Form Number: SF-424, SF-424B, SF-424D, SF-LLL, HUD 2880, HUD 53150, HUD 53152, HUD 53232, HUD 53151, HUD 53154, HUD-53156, HUD-53233, HUD-53234, HUD-53238, HUD-53231, HUD-53235, HUD-53237, HUD-53236, HUD-53239, HUD-2530, HUD-2991, HUD-2995, HUD-53421, HUD-53230, HUD-52515, HUD-50163, HUD-50153.

Description of the need for the information and proposed use: The information collection is required to administer the Choice Neighborhoods program, including applying for funds and grantee reporting.

Respondents (i.e., affected public): Potential applicants and grantees (which would include local governments, tribal entities, public housing authorities, nonprofits, and for-profit developers that apply jointly with a public entity).

Estimated Number of Respondents: 264 annually.

Estimated Number of Responses: 440 annually.

Frequency of Response: Frequency of response varies depending on what information is being provided (e.g., once per year for applications and four times per year for grantee reporting).

Burden Hours per Response: Burden hours per response varies depending on what information is being provided (e.g., Choice Neighborhoods Implementation grant application: 68.17; Choice Neighborhoods Planning grant application: 35.42; Choice Neighborhoods information collections unrelated to the NOFA, including grantee reporting and program management: 14.58).

Total Estimated Burdens: Total burden hours is estimated to be 4,431. Total burden cost is estimated to be $199,393.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) Ways to minimize the burden of the collection of information on those who are to respond, including the use of automated collection techniques or other forms of information technology.

HUD encourages interested parties to submit comment in response to these questions.

Authority: Section 3507 of the Paperwork Reduction Act of 1995, 44 U.S.C. 3507.

Colette Pollard,
Department Reports Management Officer, Office of the Chief Information Officer.

[FR Doc. 2021-17623 Filed 8-16-21; 8:45 am]

BILLING CODE 4210-67-P